DEPARTMENT OF HEALTH AND HUMAN SERVICES

Agency for Toxic Substances and Disease Registry

[Program Announcement 01126]

Enhancement of State, County or Local Public Health Departments Participation in Brownfields Decisions and Actions; Notice of Availability of Funds

A. Purpose

The Agency for Toxic Substances and Disease Registry (ATSDR) announces the availability of fiscal year (FY) 2001 funds for a Cooperative Agreement program for a pilot activity with a select number of local health departments to demonstrate effective public health actions around Brownfields properties. This program addresses the “Healthy People 2010” focus area(s) of Environmental Health.

Brownfields are abandoned, idled or under-utilized industrial and commercial properties where expansion or redevelopment is complicated by real or perceived contamination. The National Brownfields Initiative was launched by the Environmental Protection Agency (EPA) to empower States, local governments, and other stakeholders in community redevelopment to work together to assess, clean up, and sustainably reuse Brownfields. ATSDR's role in the National Brownfields Initiative is to develop strategies and methods to protect the health and quality of life of people living around brownfields properties by focusing on public health issues related to previous environmental degradation.

The purpose of this program is to assist State, county or local public health departments (LHDs) with jurisdiction in Brownfields Showcase Communities to initiate or enhance their efforts to implement strategies which ensure that efforts to remediate and redevelop properties do not present environmental public health hazards to current and future community residents. It is expected that this program will stimulate LHDs to enlist the cooperation of local governing officials, community-based organizations, and State governments to work together in a timely manner to consider public health issues in the earliest phases of redevelopment of Brownfields properties.

A goal for ATSDR is to assist in empowering local community stakeholders by providing them with the tools to assess the health of community residents during Brownfield site assessment, clean up, and redevelopment activities. It is expected that by using this comprehensive public health approach to Brownfields redevelopment, the health and quality of life of persons working or living on or near Brownfields properties will be adequately protected. This program highlights the Brownfields Showcase Communities as examples of how public health activities can be implemented; the examples will serve as models which can be generalized to other communities throughout the nation.

ATSDR is fully committed to implementing the President's Executive Order 12898 on Environmental Justice to ensure the full representation and participation on all levels, of minority and low-income population groups.

B. Eligible Applicants

Applicants will be limited to the official county, city and other local public health agencies of local communities (with the exception of Rhode Island where the State Health Department is the eligible applicant) located in the twenty-eight (28) Brownfields Showcase Communities as designated by the Environmental Protection Agency (EPA) (62 FR 44274 and 65 FR 14273). The Brownfields Showcase Communities are:

1. Baltimore, Maryland

2. Chicago, Illinois

3. Dallas, Texas

4. Denver, Colorado

5. Des Moines, Iowa

6. East Palo Alto, California

7. Gila River Indian Community, Arizona

8. Glen Cove, New York

9. Houston, Texas

10. Jackson, Mississippi

11. Kansas City, Kansas and Missouri

12. Los Angeles, California

13. Lowell, Massachusetts

14. Metlakatla Indian Community, Alaska

15. Milwaukee, Wisconsin

16. Mystic Valley Development Commission (Malden, Medford, Everett), Massachusetts

17. New Bedford, Massachusetts

18. Niagara Region, New York

19. Cape Charles/Northampton County, Virginia

20. Portland, Oregon

21. State of Rhode Island

22. Saint Louis, Missouri/East St. Louis, Illinois

23. Saint Paul, Minnesota

24. Salt Lake City, Utah

25. Seattle/King County, Washington

26. Southeast Florida (Eastward Ho!), Florida

27. Stamford, Connecticut

28. Trenton, New Jersey

Note: Title 2 of the United States Code, Chapter 26, section 1611 states that an organization described in section 501(c)(4) of the Internal Revenue Code of 1986 that engages in lobbying activities is not eligible to receive Federal funds constituting an award, grant, cooperative agreement, contract, loan, or any other form.

C. Availability of Funds

Approximately $60,000 is available in FY 2001 to fund approximately 2 awards. It is expected that the average award will be $30,000, ranging from $20,000 to $40,000. It is expected that the awards will begin on or about Sep. 30, 2001, and will be made for a 12-month budget period within a project period of 1 year. Funding estimates may change.

Use of Funds

Funds may be expended for reasonable program purposes, such as personnel, travel, supplies, and services. Funds for contractual services may be requested; however, the grantee, as the direct and primary recipient of ATSDR grant funds, must perform a substantive role in carrying out project activities and not merely serve as a conduit for an award to another party or provide funds to an ineligible party. Equipment may be purchased with grant funds. The equipment proposed should be appropriate and reasonable for the activities to be conducted. The applicant, as part of the application process, should provide: (1) A justification for the need to acquire the equipment, (2) the description of the equipment, (3) the intended use of the equipment, and (4) the advantages/ disadvantages of leasing versus purchase of the equipment. Equipment shall be returned to ATSDR at the end of the project period.

D. Program Requirements

In conducting activities to achieve the purpose of this program, the recipient will be responsible for the activities under 1. Recipient Activities, and ATSDR will be responsible for the activities listed under 2. ATSDR Activities.

1. Recipient Activities

a. Utilize existing inventories of Brownfields in the area and evaluate each property for environmental public health issues in collaboration with ATSDR, other State health departments, and EPA.

b. Integrate public health concerns into the Brownfields Showcase decision-making related to assessment, clean up, and redevelopment.

c. Develop a plan discussing the strategies associated with implementing the needed public health actions at Brownfields properties. As much as possible, utilize previous public health lessons learned in plan development.

d. Involve all appropriate stakeholders at Brownfields properties in the planning and implementation of the needed public health actions.

e. Develop methods for evaluating the strategies used and a plan for sustainability once the funding period has ended.

2. ATSDR Activities

a. Assist and collaborate with the recipient in the assembly and utilization of existing environmental data, medical and other public health data and other relevant information as requested.

b. Evaluate recommendations as requested to further the objectives of this program.

c. Provide technical assistance and training to build capacity similar to the existing state cooperative program.

E. Content

Use the information in the Program Requirements, Other Requirements, and Evaluation Criteria sections to develop the application content. Your application will be evaluated on the criteria listed, so it is important to follow them in laying out your program plan. The narrative should be no more than 20 double-spaced pages, printed on one side, with one inch margins, and unreduced font.

In a narrative format, the applicant should include discussion of areas listed under the EVALUATION CRITERIA section of this announcement as they relate to the proposed program. Because these criteria will serve as the basis for evaluation of the application, omissions or incomplete information may affect the rating of the application. Although this program does not require in-kind or matching funds, the applicant should describe any in-kind support in the formal application. For example, if the in-kind support includes personnel, the applicant should provide the qualifying experience of the personnel and clearly state the type of activity to be performed.

F. Submission and Deadline

Submit the original and two copies of CDC 0.1246. Forms are available in the application kit and at the following Internet address: www.cdc.gov/od/pgo/forminfo.htm.

On or before August 15, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late: Applications which do not meet the criteria in 1 or 2 above will be returned to the applicant without review.

G. Evaluation Criteria

Each application will be evaluated individually against the following criteria by an independent review group appointed by ATSDR. The extent of the applicant's ability to address the following:

1. Proposed Program (60 percent)

a. The identification of relevant Brownfields properties in the community including, but not limited to, those identified in the Brownfields Showcase award.

b. Demonstrate how relevant environmental and public health data will be used in the evaluation of Brownfields properties.

c. Demonstrate how the listing of public health issues and appropriate public health actions, both needed and already undertaken, will be developed.

d. Demonstrate how the plan discussing the strategies associated with implementing the needed public health actions will be developed.

e. The identification of all local Brownfields-related stakeholders groups, and how these groups will be included in the planning and implementation of strategies.

f. Demonstrate how local support from affected residents will be solicited.

g. Describe how methods for evaluating these strategies and sustaining Brownfields-related public health activities will be developed.

2. Program Evaluation (20 percent)

The extent to which evaluation plan includes measures of program outcome (e.g., effect on participant's knowledge, attitudes, skills, and behaviors).

3. Applicant Capability (20 percent)

a. Applicant's basic knowledge/experience required to perform the applicant's responsibilities in the project;

b. Description of the adequacy and commitment of institutional resources to administer the program and the adequacy of the facilities.

4. Program Budget (not scored)

The extent to which the budget is reasonable, clearly justified, and consistent with the intended use of cooperative agreement funds.

H. Other Requirements

Technical Reporting Requirements

Provide CDC/ATSDR with original plus two copies of:

1. Annual progress reports;

2. Financial status report, no more than 90 days after the end of the budget period;

3. Summary report of all activities conducted during the project period, no more than 90 days after the end of the project period; and

4. Final financial and performance reports, no more than 90 days after the end of the project period.

Send all reports to the Grants Management Specialist identified in the “Where to Obtain Additional Information” section of this announcement.

The following additional requirements are applicable to this program. For a complete description of each, see Attachment I of the announcement in the application kit.

AR-7 Executive Order 12372 Review

AR-10 Smoke-Free Workplace Requirements

AR-11 Healthy People 2010

AR-12 Lobbying Restrictions

AR-18 Cost Recovery—ATSDR

AR-19 Third Party Agreements—ATSDR

I. Authority and Catalog of Federal Domestic Assistance Number

This program is authorized under sections 104(i)(4), (6), (7), (14), and (15) of the Comprehensive Environmental Response, Compensation, and Liability Act of 1980 (CERCLA), as amended by the Superfund Amendments and Reauthorization Act of 1986 (SARA) (42 U.S.C. 9604(i)(4), (6), (7), (14), and (15)). The Catalog of Federal Domestic Assistance Number is 93.161.

J. Where To Obtain Additional Information

This and other CDC/ATSDR announcements can be found on the CDC home page Internet address—http://www.cdc.gov. Click on “Funding” then “Grants and Cooperative Agreements.” To receive additional written information and to request an application kit, call 1-888-GRANTS4 (1-888-472-6874). You will be asked to leave your name and address and will be instructed to identify the Announcement number of interest.

If you have questions after reviewing the contents of all the documents, business management technical assistance may be obtained from: Nelda Y. Godfrey, Grants Management Specialist, Grants Management Branch, Procurement and Grants Office, Centers for Disease Control and Prevention, 2920 Brandywine Road, Room 3000, Atlanta, GA 30341-4146, Telephone number: (770) 488-2722, email address: nag9@cdc.gov.

For program technical assistance, contact: Juan Reyes, Director, Office of Regional Operations, Agency for Toxic Substances and Disease Registry, 1600 Clifton Rd., NE, MS-E42, Atlanta, GA 30329, Telephone number: (404) 498-0537, email address: jur2@cdc.gov.

Dated: June 20, 2001.
Georgi Jones,
Director, Office of Policy and External Affairs, Agency for Toxic Substances and Disease Registry.

[FR Doc. 01-16042 Filed 6-26-01; 8:45 am]

BILLING CODE 4163-70-P